DEPARTMENT OF COMMERCE

International Trade Administration

[A-570-139]

Certain Mobile Access Equipment and Subassemblies Thereof From the People's Republic of China: Final Results of Antidumping Duty Administrative Review; 2022-2023

AGENCY: Enforcement and Compliance, International Trade Administration, Department of Commerce.

SUMMARY: The U.S. Department of Commerce (Commerce) determines that Zhejiang Dingli Machinery Co., Ltd. (Dingli), the sole mandatory respondent in this review and an exporter of certain mobile access equipment and subassemblies thereof (MAE) from the People's Republic of China (China), sold subject merchandise in the United States at prices below normal value (NV) during the period of review April 13, 2022, through March 31, 2023.

DATES: Applicable November 8, 2024.

FOR FURTHER INFORMATION CONTACT: Dmitry Vladimirov, AD/CVD Operations, Office I, Enforcement and Compliance, International Trade Administration, U.S. Department of Commerce, 1401 Constitution Avenue NW, Washington, DC 20230; telephone: (202) 482-0665.

SUPPLEMENTARY INFORMATION:

Background

On May 1, 2024, Commerce published the Preliminary Results.¹ On July 22, 2024, Commerce tolled certain deadlines in this administrative proceeding by seven days.² On July 31, 2024, in accordance with section 751(a)(3)(A) of the Act, Commerce extended the deadline for these final results until November 4, 2024.³ For events subsequent to the Preliminary Results, see the Issues and Decision Memorandum.⁴

¹ See Certain Mobile Access Equipment and Subassemblies Thereof from the People's Republic of China: Preliminary Results and Partial Rescission of Antidumping Duty Administrative Review; 2022-2023, 89 FR 35067 (May 1, 2024) (Preliminary Results), and accompanying Preliminary Decision Memorandum (PDM).

² See Memorandum, “Tolling of Deadlines for Antidumping and Countervailing Duty Proceedings,” dated July 22, 2024.

³ See Memorandum, “Extension of Deadline for Final Results of Antidumping Duty Administrative Review; 2022-2023,” dated July 31, 2024.

⁴ See Memorandum, “Issues and Decision Memorandum for the Final Results of the Antidumping Duty Administrative Review of Certain Mobile Access Equipment and Subassemblies Thereof from the People's Republic of China; 2022-2023,” dated concurrently with, and hereby adopted by, this notice (Issues and Decision Memorandum).

Scope of the Order ⁵

⁵ See Certain Mobile Access Equipment and Subassemblies Thereof from the People's Republic of China: Antidumping Duty Order, 87 FR 22190 (April 14, 2022) (Order).

The merchandise covered by the Order is MAE from China. A full description of the scope of the Order is contained in the Issues and Decision Memorandum.

Analysis of Comments Received

All issues raised by interested parties in briefs are addressed in the Issues and Decision Memorandum. A list of the issues addressed in the Issues and Decision Memorandum is provided in an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review and analysis of the comments received from the interested parties, we made changes to the Preliminary Results margin calculation for Dingli,⁶ the sole company under review, which resulted in changes to its preliminary margin.

⁶ See Memorandum, “Final Analysis Memorandum,” dated concurrently with this notice (Final Analysis Memorandum).

Separate Rate

Commerce determines that Dingli is eligible to receive a separate rate in this administrative review.⁷ There are no other companies under review.

⁷ See Preliminary Results PDM at 14-16 for more details.

China-Wide Entity

Commerce's policy regarding the conditional review of the China-wide entity applies to this administrative review.⁸ Under this policy, the China-wide entity will not be under review unless a party specifically requests, or Commerce self-initiates, a review of the entity. Because no party requested a review of the China-wide entity in this review, the China-wide entity is not under review, and the China-wide entity's rate (i.e., 165.14 percent) is not subject to change.

⁸ See Antidumping Proceedings: Announcement of Change in Department Practice for Respondent Selection in Antidumping Duty Proceedings and Conditional Review of the Nonmarket Economy Entity in NME Antidumping Duty Proceedings, 78 FR 65963 (November 4, 2013).

Final Results of Review

We determine that the following weighted-average dumping margin exists for the period April 13, 2022, through March 31, 2023, for the mandatory respondent:

Exporter | Weighted-average dumping margin (percent)
Zhejiang Dingli Machinery Co., Ltd | 12.39

Disclosure

We intend to disclose the calculations performed for these final results to interested parties within five days after the publication of this notice.⁹

⁹ See 19 CFR 351.224(b).

Assessment Rates

Pursuant to section 751(a)(2)(C) of the Act and 19 CFR 351.212(b), Commerce has determined, and CBP shall assess, antidumping duties on all appropriate entries of subject merchandise in accordance with these final results of review.

Because Dingli's ad valorem weighted-average final dumping margin is not zero or de minimis (i.e., less than 0.50 percent), we have calculated importer-specific assessment rates for this respondent, in accordance with 19 CFR 351.212(b)(1).¹⁰

¹⁰ See Antidumping Proceedings: Calculation of the Weighted-Average Dumping Margin and Assessment Rate in Certain Antidumping Proceedings: Final Modification, 77 FR 8101, 8103 (February 14, 2012).

For sales for which Dingli reported entered value, we have calculated importer-specific ad valorem assessment rates based on the ratio of the total amount of dumping calculated for each importer's examined sales to the total entered value of those sales, in accordance with 19 CFR 351.212(b)(1). For sales for which Dingli did not report entered value, we have calculated importer-specific per-unit duty assessment rates based on the ratio of the total amount of antidumping duties calculated for the examined sales to the total quantity of those sales. To determine whether an importer-specific, per-unit assessment rate is de minimis, in accordance with 19 CFR 351.106(c)(2), we also calculated an importer-specific ad valorem ratio based on estimated entered values.

Commerce intends to issue assessment instructions to CBP no earlier than 35 days after the date of publication of these final results. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for shipments of the subject merchandise from China entered, or withdrawn from warehouse, for consumption on, or after, the publication date of the final results of review, as provided in section 751(a)(2)(C) of the Act: (1) for the subject merchandise exported by the company listed above that has a separate rate, the cash deposit rate will be equal to the weighted-average dumping margin established in the final results of this administrative review (except, if the rate is zero or de minimis, then zero cash deposit will be required); (2) for previously investigated or reviewed Chinese and non-Chinese exporters of subject merchandise not listed above that received a separate rate in a prior segment of this proceeding, the cash deposit rate will continue to be the existing exporter-specific rate; (3) for all Chinese exporters of subject merchandise that have not been found to be entitled to a separate rate, the cash deposit rate will be that for the China-wide entity, i.e., 165.14 percent; ¹¹ and (4) for all non-Chinese exporters of subject merchandise which have not received their own separate rate, the cash deposit rate will be the rate applicable to the Chinese exporter that supplied that non-Chinese exporter. These deposit requirements, when imposed, shall remain in effect until further notice.

¹¹ See Order, 87 FR at 22191, adjusted for export subsidies as outlined in Certain Mobile Access Equipment and Subassemblies Thereof from the People's Republic of China: Final Affirmative Determination of Sales at Less Than Fair Value, 87 FR 9576, 9578 (February 22, 2022).

Notification to Importers Regarding the Reimbursement of Duties

This notice also serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties has occurred and the subsequent assessment of double antidumping duties, and/or increase in the amount of antidumping duties by the amount of the countervailing duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act and 19 CFR 351.221(b)(5) and 19 CFR 351.213(h)(2).

Dated: November 4, 2024.
Abdelali Elouaradia,
Deputy Assistant Secretary for Enforcement and Compliance.

Appendix

List of Topics Discussed in the Issues and Decision Memorandum

I. Summary

II. Background

III. Scope of the Order

IV. Changes Since the Preliminary Results

V. Discussion of the Issues

Comment 1: Türkiye as the Primary Surrogate Country

Comment 2: Turkish Financial Statements

Comment 3: Bulgaria as the Primary Surrogate Country

Comment 4: Valuation of Complex Fabricated Steel Components

Comment 5: Valuation of Minor Fabricated Steel Parts

Comment 6: Valuation of Ocean Freight

Comment 7: Exclusion of Russian Imports from Average Unit Values (AUVs)

Comment 8: Valuation of Marine Insurance

Comment 9: Differential Pricing and Cohen's d Test

Comment 10: Section 301 Duties

Comment 11: Turkish vs. Bulgarian Harmonized System (HS) Selection for Certain Inputs

Comment 12: Appropriate Turkish HS Selection for Certain Inputs

VI. Recommendation

[FR Doc. 2024-26025 Filed 11-7-24; 8:45 am]

BILLING CODE 3510-DS-P